FEDERAL RETIREMENT THRIFT INVESTMENT BOARD

Sunshine Act; Notice of Meeting

TIME AND DATE: 8:30 a.m. (Eastern Time) July 22, 2013.

PLACE: 10th Floor Board Meeting Room, 77 K Street NE., Washington, DC 20002.

STATUS: Parts will be open to the public and parts closed to the public.

MATTERS TO BE CONSIDERED:

Parts Open to the Public

1. Approval of the Minutes of the June 24, 2013 Board Member Meeting.

2. Thrift Savings Plan Activity Reports by the Executive Director.

a. Monthly Participant Activity Report.

b. Monthly Investment Policy Report.

c. Legislative Report.

3. Quarterly Vendor Financials.

4. Investment Manager.

Parts Closed to the Public

5. Security.

5. Litigation Review.

6. Personnel.

CONTACT PERSON FOR MORE INFORMATION: Kimberly Weaver, Director, Office of External Affairs (202) 942-1640.

Dated: July 11, 2013.
James B. Petrick,
Secretary, Federal Retirement Thrift Investment Board.

[FR Doc. 2013-17019 Filed 7-11-13; 4:15 pm]

BILLING CODE 6760-01-P